DEPARTMENT OF TRANSPORTATION

Federal Aviation Administration

14 CFR Part 71

[Docket No. FAA-2014-0600; Airspace Docket No. 14-ASW-6]

Establishment of Class D and E Airspace, and Amendment of Class E Airspace; Hammond, LA

AGENCY: Federal Aviation Administration (FAA), DOT.

ACTION: Final rule.

SUMMARY: This action establishes Class D airspace and Class E airspace designated as an extension, at Hammond, LA. The establishment of an air traffic control tower has made this action necessary for the safety and management of Instrument Flight Rules (IFR) operations within the airspace at Hammond Northshore Regional Airport. This action also amends the airport name and adjusts the geographic coordinates for the current Class E airspace area.

DATES: Effective date: 0901 UTC, March 5, 2015. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Raul Garza, Jr., Central Service Center, Operations Support Group, Federal Aviation Administration, Southwest Region, 2601 Meacham Blvd., Fort Worth, TX 76137; telephone 817-321-7654.

SUPPLEMENTARY INFORMATION:

History

On September 25, 2014, the FAA published in the Federal Register a notice of proposed rulemaking (NPRM) to establish Class D airspace and Class E airspace for the Hammond, LA area, creating controlled airspace at Hammond Northshore Regional Airport (79 FR 57482) Docket No. FAA-2014-0600. Interested parties were invited to participate in this rulemaking effort by submitting written comments on the proposal to the FAA. No comments were received. Class D and Class E airspace designations are published in paragraph 5000, 6004, and 6005, respectively, of FAA Order 7400.9Y dated August 6, 2014, and effective September 15, 2014, which is incorporated by reference in 14 CFR 71.1. The Class E airspace designations listed in this document will be published subsequently in the Order.

The Rule

This action amends Title 14 Code of Federal Regulations (14 CFR) Part 71 by establishing Class D airspace extending upward from the surface to and including 2,500 feet MSL within a 4.1-mile radius of Hammond Northshore Regional Airport, Hammond, LA, to accommodate the establishment of an air traffic control tower. Class E airspace designated as an extension is established within a 4.2-mile radius of the airport, with segments extending from the 4.1-mile radius of the airport to 7 miles north and 7 miles southeast of the Hammond VORTAC. Controlled airspace is needed for the safety and management of IFR operations at the airport. This action also updates the geographic coordinates of the airport to coincide with the FAA's aeronautical database, and reflects the airport name change from Hammond Municipal Airport to Hammond Northshore Regional Airport.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Hammond Northshore Regional Airport, Hammond, LA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9Y, Airspace Designations and Reporting Points, dated August 6, 2014, and effective September 15, 2014, is amended as follows:

Paragraph 5000 Class D Airspace.

* * * * *

ASW LA D Hammond, LA [New]

Hammond Northshore Regional Airport, LA

(Lat. 30°31′18″ N., long. 90°25′06″ W.)

That airspace extending upward from the surface to and including 2,500 feet MSL within a 4.1-mile radius of Hammond Northshore Regional Airport. This Class D airspace area is effective during the specific dates and times established in advance by a Notice to Airmen. The effective date and time will thereafter be continuously published in the Airport/Facility Directory.

Paragraph 6004 Class E Airspace Areas Designated as an Extension to a Class D or Class E Surface Area.

ASW LA E4 Hammond, LA [New]

Hammond Northshore Regional Airport, LA

(Lat. 30°31′18″ N., long. 90°25′06″ W.)

Hammond VORTAC

(Lat. 30°31′10″ N., long. 90°25′03″ W.)

That airspace extending upward from the surface within 2.4 miles each side of the Hammond VORTAC 355° radial extending from the 4.1-mile radius to 7 miles north of the airport, and within 2.4 miles each side of the Hammond VORTAC 128° radial extending from the 4.1-mile radius to 7 miles southeast of the airport. This Class E airspace area is effective during the specific days and times established in advance by a Notice to Airmen. The effective days and times will thereafter be continuously published in the Airport/Facility Directory.

Paragraph 6005 Class E Airspace Areas Extending Upward From 700 Feet or More Above the Surface of the Earth.

ASW LA E5 Hammond, LA [Amended]

Hammond Northshore Regional Airport, LA

(Lat. 30°31′18″ N., long. 90°25′06″ W.)

That airspace extending upward from 700 feet above the surface within a 7.5-mile radius of Hammond Northshore Regional Airport.

Issued in Fort Worth, TX, on November 20, 2014.
Walter Tweedy,
Manager, Operations Support Group, ATO Central Service Center.

[FR Doc. 2014-28231 Filed 12-1-14; 8:45 am]

BILLING CODE 4910-13-P